FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 011962-019.

Agreement Name: Consolidated Chassis Management Pool Agreement.

Parties: Ocean Carrier Equipment Management Association, Inc; Consolidated Chassis Management LLC; Chicago Ohio Valley Consolidated Chassis Pool LLC; Denver Consolidated Chassis Pool LLC; Gulf Consolidated Chassis Pool LLC; Mid-South Consolidated Chassis Pool LLC; Midwest Consolidated Chassis Pool LLC; UIE Pools LLC; United Intermodal Enterprises LLC; Maersk A/S and Hamburg Sud (acting as a single party); CMA CGM S.A., APL Co. Pte Ltd., and American President Lines, Ltd. (acting as a single party); COSCO SHIPPING Lines Co., Ltd.; Evergreen Line Joint Service Agreement; Ocean Network Express Pte. Ltd.; Hapag-Lloyd AG and Hapag-Lloyd USA (acting as a single party); HMM Company Limited; MSC Mediterranean Shipping Co., S.A.; Zim Integrated Shipping Services Ltd.; Matson Navigation Company; Westwood Shipping Lines; and Yang Ming Marine Transport Corp.

Filing Party: Joshua Stein; Cozen O'Connor.

Synopsis: The Amendment changes the name of Consolidated Chassis Enterprises LLC to United Intermodal Enterprises LLC and CCM Pools LLC to UIE Pools LLC throughout the Agreement.

Proposed Effective Date: 8/22/2023.

Location: https://www2.fmc.gov/FMC.Agreements.Web/Public/AgreementHistory/454.

Agreement No.: 201391-002.

Agreement Name: South Atlantic Multiport Chassis Pool Agreement.

Parties: Ocean Carrier Equipment Management Association, Inc.; South Atlantic Consolidated Chassis Pool LLC; Consolidated Chassis Management LLC; UIE Pools LLC; United Intermodal Enterprises LLC; Georgia Ports Authority; Jacksonville Port Authority; North Carolina State Ports Authority; COSCO SHIPPING Lines Co., Ltd.; Hapag-Lloyd AG and Hapag-Lloyd USA LLC (acting as a single party); Maersk A/S and Hamburg Sud (acting as a single party); MSC Mediterranean Shipping Company S.A.; Ocean Network Express Pte., Ltd.; Wan Hai Lines Ltd.; and Zim Integrated Shipping Services Ltd.

Filing Party: Joshua Stein; Cozen O'Connor.

Synopsis: The Amendment changes the name of Consolidated Chassis Enterprises LLC to United Intermodal Enterprises LLC and CCM Pools LLC to UIE Pools LLC throughout the Agreement.

Proposed Effective Date: 8/22/2023.

Location: https://www2.fmc.gov/FMC.Agreements.Web/Public/AgreementHistory/65506.

Agreement No.: 201391-003.

Agreement Name: South Atlantic Multiport Chassis Pool Agreement.

Parties: Ocean Carrier Equipment Management Association, Inc.; South Atlantic Consolidated Chassis Pool LLC; Consolidated Chassis Management LLC; UIE Pools LLC; United Intermodal Enterprises LLC; Georgia Ports Authority; Jacksonville Port Authority; North Carolina State Ports Authority; COSCO SHIPPING Lines Co., Ltd.; Hapag-Lloyd AG and Hapag-Lloyd USA LLC (acting as a single party); Maersk A/S and Hamburg Sud (acting as a single party); MSC Mediterranean Shipping Company S.A.; Ocean Network Express Pte., Ltd.; Wan Hai Lines Ltd.; and Zim Integrated Shipping Services Ltd.

Filing Party: Joshua Stein; Cozen O'Connor.

Synopsis: The Amendment adds HMM Company Limited; Evergreen Line Joint Service Agreement; CMA CGM S.A.; and American President Lines, LLC as parties to the Agreement. The parties have requested expedited review.

Proposed Effective Date: 10/06/2023.

Location: https://www2.fmc.gov/FMC.Agreements.Web/Public/AgreementHistory/65506.

Agreement No.: 201408.

Agreement Name: Oceanus Line Ltd./Network Shipping Ltd. Central America—U.S. Southeast Coast Service Space Charter Agreement.

Parties: Network Shipping Ltd.; Oceanus Line Ltd.

Filing Party: Susana Vergel; Network Shipping Ltd.

Synopsis: The Agreement authorizes Network Shipping Ltd. to charter space to Oceanus Line Ltd. on vessels NWS operates in the trade between Costa Rica, on the one hand, and the U.S. Southeast Coast, on the other hand.

Proposed Effective Date: 8/24/2023.

Location:

https://www2.fmc.gov/FMC.Agreements.Web/Public/AgreementHistory/84515.

Dated: August 25, 2023.
Carl Savoy,
Program Support Specialist.

[FR Doc. 2023-18733 Filed 8-29-23; 8:45 am]

BILLING CODE 6730-02-P